DEPARTMENT OF COMMERCE

National Oceanic and Atmospheric Administration

50 CFR Part 679

[Docket No. 130925836-4174-02]

RIN 0648-XD688

Fisheries of the Exclusive Economic Zone Off Alaska; Inseason Adjustment to the 2015 Gulf of Alaska Pollock and Pacific Cod Total Allowable Catch Amounts

AGENCY: National Marine Fisheries Service (NMFS), National Oceanic and Atmospheric Administration (NOAA), Commerce.

ACTION: Temporary rule; inseason adjustment; request for comments.

SUMMARY: NMFS is adjusting the 2015 total allowable catch (TAC) amounts for the Gulf of Alaska (GOA) pollock and Pacific cod fisheries. This action is necessary because NMFS has determined these TACs are incorrectly specified, and will ensure the GOA pollock and Pacific cod TACs are the appropriate amounts based on the best available scientific information for pollock and Pacific cod in the GOA. This action is consistent with the goals and objectives of the Fishery Management Plan for Groundfish of the Gulf of Alaska.

DATES: Effective 1200 hours, Alaska local time (A.l.t.), January 1, 2015, until the effective date of the final 2015 and 2016 harvest specifications for GOA groundfish, which will be published in the Federal Register.

Comments must be received at the following address no later than 4:30 p.m., A.l.t., January 16, 2015.

ADDRESSES: You may submit comments on this document, identified by FDMS Docket Number NOAA-NMFS-2013-0147 by any of the following methods:

• Electronic Submission: Submit all electronic public comments via the Federal e-Rulemaking Portal. Go to http://www.regulations.gov/#!docketDetail;D=NOAA-NMFS-2013-0147, click the “Comment Now!” icon, complete the required fields, and enter or attach your comments.

• Mail: Address written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Obren Davis, 907-586-7228.

SUPPLEMENTARY INFORMATION: NMFS manages the groundfish fishery in the GOA exclusive economic zone according to the Fishery Management Plan for Groundfish of the Gulf of Alaska (FMP) prepared by the North Pacific Fishery Management Council (Council) under authority of the Magnuson-Stevens Fishery Conservation and Management Act. Regulations governing fishing by U.S. vessels in accordance with the FMP appear at subpart H of 50 CFR part 600 and 50 CFR part 679.

The final 2014 and 2015 harvest specifications for groundfish in the GOA (79 FR 12890, March 6, 2014) set the 2015 pollock TAC at 193,809 metric tons (mt) and the 2015 Pacific cod TAC at 61,519 mt in the GOA. In December 2014, the North Pacific Fishery Management Council (Council) recommended a 2015 pollock TAC of 199,151 mt for the GOA, which is more than the 193,809 mt established by the final 2014 and 2015 harvest specifications for groundfish in the GOA. The Council also recommended a 2015 Pacific cod TAC of 75,202 mt for the GOA, which is more than the 61,519 mt established by the final 2014 and 2015 harvest specifications for groundfish in the GOA. The Council's recommended 2015 TACs, and the area and seasonal apportionments, are based on the Stock Assessment and Fishery Evaluation report (SAFE), dated November 2014, which NMFS has determined is the best available scientific information for these fisheries.

Steller sea lions occur in the same location as the pollock and Pacific cod fisheries and are listed as endangered under the Endangered Species Act (ESA). Pollock and Pacific cod are a principal prey species for Steller sea lions in the GOA. The seasonal apportionment of pollock and Pacific cod harvest is necessary to ensure the groundfish fisheries are not likely to cause jeopardy of extinction or adverse modification of critical habitat for Steller sea lions. The regulations at § 679.20(a)(5)(iv) specify how the pollock TAC will be apportioned. The regulations at § 679.20(a)(6)(ii) and § 679.20(a)(12)(i) specify how the Pacific cod TAC will be apportioned.

In accordance with § 679.25(a)(1)(iii), (a)(2)(i)(B), and (a)(2)(iv) the Administrator, Alaska Region, NMFS (Regional Administrator), has determined that, based on the November 2014 SAFE report for this fishery, the current GOA pollock and Pacific cod TACs are incorrectly specified. Consequently, pursuant to § 679.25(a)(1)(iii), the Regional Administrator is adjusting the 2015 GOA pollock TAC to 199,151 mt and the 2015 GOA Pacific cod TAC to 75,202 mt. Therefore, Table 2 of the final 2014 and 2015 harvest specifications for groundfish in the GOA (79 FR 12890, March 6, 2014) is revised consistent with this adjustment.

Pursuant to § 679.20(a)(5)(iv), Table 4 of the final 2014 and 2015 harvest specifications for groundfish in the GOA (79 FR 12890, March 6, 2014) is revised for the 2015 TACs of pollock in the Central and Western Regulatory Area of the GOA.

Table 4—Final 2015 Distribution of Pollock in the Central and Western Regulatory Areas of the GOA; Seasonal Biomass Distribution, Area Apportionments; and Seasonal Allowances of Annual TAC
[Values are rounded to the nearest metric ton and percentages are rounded to the nearest 0.01]
Season ¹ | Shumagin (Area 610) |  | Chirikof (Area 620) |  | Kodiak (Area 630) |  | Total ²
A (Jan 20-Mar 10) | 3,632 | (7.99%) | 30,503 | (67.11%) | 11,316 | (24.90%) | 45,452
B (Mar 10-May 31) | 3,632 | (7.99%) | 37,820 | (83.21%) | 4,000 | (8.80%) | 45,452
C (Aug 25-Oct 1) | 12,185 | (26.81%) | 14,628 | (32.18%) | 18,639 | (41.01%) | 45,452
D (Oct 1-Nov 1) | 12,185 | (26.81%) | 14,628 | (32.18%) | 18,639 | (41.01%) | 45,452
Annual Total | 31,364 |  | 97,579 |  | 52,594 |  | 181,806
¹ As established by § 679.23(d)(2)(i) through (iv), the A, B, C, and D season allowances are available from January 20 to March 10, March 10 to May 31, August 25 to October 1, and October 1 to November 1, respectively. The amounts of pollock for processing by the inshore and offshore components are not shown in this table.
² The WYK and SEO District pollock TACs are not allocated by season and are not included in the total pollock TACs shown in this table.
Note: Seasonal allowances may not total precisely to annual TAC total (due to rounding).

Pursuant to § 679.20(a)(6)(ii) and § 679.20(a)(12)(i), Table 6 of the final 2014 and 2015 harvest specifications for groundfish in the GOA (79 FR 12890, March 6, 2014) is revised for the 2015 seasonal apportionments and allocation of Pacific cod TAC in the GOA consistent with this adjustment.

Table 6—Final 2015 Seasonal Apportionments and Allocation of Pacific Cod Total Allowable Catch Amounts in the GOA; Allocations for the Western GOA and Central GOA Sectors and the Eastern GOA Inshore and Offshore Processing Components
[Values are rounded to the nearest metric ton and percentages to the nearest 0.01. Seasonal allowances may not total precisely to annual allocation amount.]
Regulatory area and sector | Annual allocation (mt) | A Season: Sector % of annual non-jig TAC | A Season: Seasonal allowances (mt) | B Season: Sector % of annual non-jig TAC | B Season: Seasonal allowances (mt)
Western GOA:
Jig (2.5% of TAC) | 677 | N/A | 406 | N/A | 271
Hook-and-line CV | 370 | 0.70 | 185 | 0.70 | 185
Hook-and-line C/P | 5,230 | 10.90 | 2,879 | 8.90 | 2,351
Trawl CV | 10,143 | 27.70 | 7,317 | 10.70 | 2,826
Trawl C/P | 634 | 0.90 | 238 | 1.50 | 396
All Pot CV and Pot C/P | 10,037 | 19.80 | 5,230 | 18.20 | 4,807
Total | 27,091 | 60.00 | 16,255 | 40.00 | 10,837
Central GOA:
Jig (2.0% of TAC) | 920 | N/A | 552 | N/A | 368
Hook-and-line <50 CV | 6,581 | 9.32 | 4,199 | 5.29 | 2,383
Hook-and-line ≥50 CV | 3,023 | 5.61 | 2,528 | 1.10 | 495
Hook-and-line C/P | 2,301 | 4.11 | 1,851 | 1.00 | 450
Trawl CV | 18,742 | 21.14 | 9,526 | 20.45 | 9,216
Trawl C/P | 1,892 | 2.00 | 903 | 2.19 | 989
All Pot CV and Pot C/P | 12,532 | 17.83 | 8,036 | 9.97 | 4,496
Total | 45,990 | 60.00 | 27,594 | 40.00 | 18,396
Eastern GOA |  | Inshore (90% of Annual TAC) |  | Offshore (10% of Annual TAC)
| 2,121 | 1,909 |  | 212
Note: Seasonal apportionments may not total precisely due to rounding.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would allow for harvests that exceed the appropriate allocations for Pacific cod based on the best scientific information available. NMFS was unable to publish a notice providing time for public comment because the most recent, relevant data only became available as of December 24, 2014, and additional time for prior public comment would result in conservation concerns for the ESA-listed Steller sea lions.

The AA also finds good cause to waive the 30-day delay in the effective date of this action under 5 U.S.C. 553(d)(3). This finding is based upon the reasons provided above for waiver of prior notice and opportunity for public comment.

Under § 679.25(c)(2), interested persons are invited to submit written comments on this action to the above address until January 16, 2015.

This action is required by § 679.20 and § 679.25 and is exempt from review under Executive Order 12866.

Authority: 16 U.S.C. 1801 et seq.

Dated: December 29, 2014.
James P. Burgess,
Acting Director, Office of Sustainable Fisheries, National Marine Fisheries Service.

[FR Doc. 2014-30835 Filed 12-30-14; 4:15 pm]

BILLING CODE 3510-22-P